SURFACE TRANSPORTATION BOARD

[Docket No. FD 36520]

Chicago, Rock Island & Pacific Railroad LLC—Continuance in Control Exemption—Gulf & Ship Island Railroad LLC

Chicago Rock Island & Pacific Railroad LLC (CRIP), a Class III carrier, has filed a verified notice of exemption under 49 CFR 1180.2(d)(2) to continue in control of Gulf & Ship Island Railroad LLC (GSIR), a noncarrier controlled by CRIP, upon GSIR's becoming a carrier.

This transaction is related to a verified notice of exemption filed concurrently in Gulf & Ship Island Railroad LLC—Lease & Operation Exemption—Rail Line of Harrison County Development Commission at or Near Gulfport, Harrison County, Miss., Docket No. FD 36519, in which GSIR seeks to lease from Harrison County Development Commission, acting with the Harrison County Board of Supervisors, and operate approximately 5 miles of industrial lead tracks known as the Seaway Lead, in Harrison County, Miss.

The transaction may be consummated on or after July 1, 2021, the effective date of the exemption (30 days after the verified notice was filed).¹

¹ CRIP initially submitted its notice of exemption on May 17, 2021, but supplemented it by letter on June 1, 2021. The date of CRIP's supplement will be considered the filing date for purposes of calculating the effective date of the exemption.

According to the verified notice of exemption, CRIP currently owns and operates Mississippi Delta Railroad LLC (MSDR), a Class III rail carrier operating solely in the state of Mississippi.

CRIP represents that: (1) The rail line to be leased and operated by GSIR does not connect with the rail lines of any of the rail carriers controlled by CRIP; (2) the transaction is not part of a series of anticipated transactions that would connect GSIR with any railroad in the CRIP corporate family; and (3) the transaction does not involve a Class I rail carrier. The proposed transaction is therefore exempt from the prior approval requirements of 49 U.S.C. 11323 pursuant to 49 CFR 1180.2(d)(2).

Under 49 U.S.C. 10502(g), the Board may not use its exemption authority to relieve a rail carrier of its statutory obligation to protect the interests of its employees. However, 49 U.S.C. 11326(c) does not provide for labor protection for transactions under 49 U.S.C. 11324 and 11325 that involve only Class III rail carriers. Because this transaction involves Class III rail carriers only, the Board, under the statute, may not impose labor protective conditions for this transaction.

If the verified notice contains false or misleading information, the exemption is void ab initio. Petitions to revoke the exemption under 49 U.S.C. 10502(d) may be filed at any time. The filing of a petition to revoke will not automatically stay the effectiveness of the exemption. Petitions for stay must be filed no later than June 24, 2021 (at least seven days before the exemption becomes effective).

All pleadings, referring to Docket No. FD 36520, should be filed with the Surface Transportation Board via e-filing on the Board's website. In addition, one copy of each pleading must be served on CRIP's representative, Thomas F. McFarland, Thomas F. McFarland, P.C., 2230 Marston Lane, Flossmoor, IL 60422-1336.

According to CRIP, this action is categorically excluded from environmental review under 49 CFR 1105.6(c) and from historic reporting requirements under 49 CFR 1105.8(b).

Board decisions and notices are available at www.stb.gov.

Decided: June 2, 2021.
By the Board, Scott M. Zimmerman, Acting Director, Office of Proceedings.
Jeffrey Herzig,
Clearance Clerk.

[FR Doc. 2021-11994 Filed 6-7-21; 8:45 am]

BILLING CODE 4915-01-P